DEPARTMENT OF ENERGY

Federal Energy Regulatory Commission

Combined Notice of Filings #1

January 23, 2009.

Take notice that the Commission received the following electric corporate filings:

Docket Numbers: EC07-45-003.

Applicants: Morgan Stanley.

Description: Notice of Non-Material Change in Status.

Filed Date: 01/22/2009.

Accession Number: 20090122-5159.

Comment Date: 5 p.m. Eastern Time on Thursday, February 12, 2009.

Take notice that the Commission received the following exempt wholesale generator filings:

Docket Numbers: EG09-24-000.

Applicants: Evergreen Wind Power V, LLC.

Description: Self Certification Notice of Evergreen Wind Power V, LLC.

Filed Date: 01/22/2009.

Accession Number: 20090122-5146.

Comment Date: 5 p.m. Eastern Time on Thursday, February 12, 2009.

Take notice that the Commission received the following electric rate filings:

Docket Numbers: ER98-4512-006.

Applicants: Consolidated Water Power Company.

Description: Request of Consolidated Water Power Company for Exemption from Filing Requirements Applicable to Category 2 Sellers and Designation as a Category 1 Seller.

Filed Date: 01/22/2009.

Accession Number: 20090122-5158.

Comment Date: 5 p.m. Eastern Time on Thursday, February 12, 2009.

Docket Numbers: ER00-136-006.

Applicants: FortisUS Energy Corporation.

Description: FortisUS Energy Corporation Submits Notice of Non-Material Change in Status.

Filed Date: 01/21/2009.

Accession Number: 20090121-5141.

Comment Date: 5 p.m. Eastern Time on Wednesday, February 11, 2009.

Docket Numbers: ER01-138-006.

Applicants: Delta Person Limited Partnership.

Description: Delta Person Limited Partnership's Market-Based Rate Notification of Non-Material Change in Facts.

Filed Date: 01/21/2009.

Accession Number: 20090121-5165.

Comment Date: 5 p.m. Eastern Time on Wednesday, February 11, 2009.

Docket Numbers: ER06-226-001, ER98-3774-007, ER07-565-002, ER07-566-002, ER07-1040-003, ER03-717-004, ER06-1291-003, ER00-2603-006, ER94-142-030, ER08-200-003.

Applicants: Choctaw Gas Generation, LLC, Choctaw Generation Limited Partnership, FirstLight Hydro Generating Company, FirstLight Power Resources Management, LLC, Hopewell Cogeneration Limited Partnership, Hot Spring Power Company, LLC, Mt Tom Generating Company, Syracuse Energy Corporation, Suez Energy Marketing NA, Inc., Waterbury Generation, LLC.

Description: Notice of Change in Status of Choctaw Gas Generation, LLC, et al.

Filed Date: 01/22/2009.

Accession Number: 20090122-5156.

Comment Date: 5 p.m. Eastern Time on Thursday, February 12, 2009.

Docket Numbers: ER06-1331-004, ER01-2543-006, ER01-2544-006, ER01-2545-006, ER01-2546-006, ER01-2547-006, ER03-1182-007, ER99-415-017, ER03-983-017.

Applicants: CalPeak Power LLC, CalPeak Power—Panoche LLC, CalPeak Power—Vaca Dixon LLC, CalPeak Power El Cajon LLC, CalPeak Power—Enterprise LLC, CalPeak Power Borderline LLC, Tyr Energy LLC, Commonwealth Chesapeake Company, LLC, Fox Energy Company, LLC.

Description: Notice of Non-Material Change in Status of CalPeak Power LLC, et al.

Filed Date: 01/21/2009.

Accession Number: 20090121-5057.

Comment Date: 5 p.m. Eastern Time on Wednesday, February 11, 2009.

Docket Numbers: ER07-799-004, EL07-61-003.

Applicants: Norwalk Power LLC.

Description: Compliance Filing pursuant to the Commission's 12/30/08 letter order.

Filed Date: 01/22/2009.

Accession Number: 20090122-5126.

Comment Date: 5 p.m. Eastern Time on Thursday, February 12, 2009.

Docket Numbers: ER08-283-002.

Applicants: New York Independent System Operator, Inc.

Description: Compliance Filing pursuant to the Commission's December 18, 2008 Order.

Filed Date: 01/21/2009.

Accession Number: 20090121-5244.

Comment Date: 5 p.m. Eastern Time on Wednesday, February 11, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-2148 Filed 1-30-09; 8:45 am]

BILLING CODE 6717-01-P